DEPARTMENT OF THE INTERIOR

Bureau of Land Management

[CACA 048880, LLCAD06000, L51010000.FX0000, LVRWB09B2520]

Notice of Availability of the Draft Environmental Impact Statement/Staff Assessment for the NextEra Energy Resources Genesis Solar Energy Project and Possible California Desert Conservation Area Plan Amendment

AGENCY: Bureau of Land Management, Interior.

ACTION: Notice of Availability.

SUMMARY: In accordance with the National Environmental Policy Act of 1969, as amended (NEPA), and the Federal Land Policy and Management Act of 1976, as amended (FLPMA), the Bureau of Land Management (BLM) and the California Energy Commission (CEC) have prepared a Draft Environmental Impact Statement (EIS), Draft California Desert Conservation Area (CDCA) Plan Amendment, and Staff Assessment (SA) as a joint environmental analysis document for the Genesis Solar Energy Project (GSEP), Riverside County, California, and by this notice are announcing the opening of the comment period.

DATES: To ensure that comments will be considered, the BLM must receive written comments on the Draft EIS/SA and plan amendment within 90 days following the date the Environmental Protection Agency publishes its Notice of Availability in the Federal Register. The BLM will announce future meetings or hearings and any other public involvement activities at least 15 days in advance through public notices, media releases, and/or mailings.

ADDRESSES: You may submit comments related to the GSEP by any of the following methods:

• E-mail: CAPSSolarNextEraFPL@blm.gov.

• Mail or other delivery service: Allison Shaffer, Project Manager, Palm Springs South Coast Field Office, Bureau of Land Management, 1201 Bird Center Drive, Palm Springs, California 92262.

Copies of the GSEP Draft EIS/SA are available from the BLM at the above addresses.

FOR FURTHER INFORMATION CONTACT: Allison Shaffer, BLM project manager, at (760) 833-7100. See also ADDRESSES above.

SUPPLEMENTARY INFORMATION: NextEra Energy Resources has submitted a right-of-way (ROW) application to the BLM for development of the proposed GSEP on public lands, consisting of two concentrating solar electric generating power plants each producing 125 megawatts (MW) for a total output of approximately 250 MW of electricity at full development. The project would use a wet-cooling tower for power plant cooling. Water for the project (approximately 1,644 acre-feet per year) would be obtained from on-site wells. The project would include a 15-mile transmission line to the Colorado River Substation; 5.6 miles of this line would use the existing 230-kilovolt Blythe Energy Transmission Line. The total expected project footprint is about 1,800 acres of BLM-managed lands for the two power plants, and approximately 80 to 90 acres in support of ancillary facilities. The project is sited in an undeveloped area of the Sonoran Desert, near Ford Dry Lake, north of Interstate 10 in Riverside County, approximately 25 miles west of Blythe, California, on lands managed by the BLM. The BLM's purpose and need for the GSEP is to respond to NextEra's application for a ROW grant to construct, operate, and decommission a solar power facility on public lands in compliance with Title V of FLPMA (43 U.S.C. 1761), BLM ROW regulations, and other applicable Federal laws. The BLM will decide whether to grant, grant with modification, or deny a ROW to NextEra for the proposed GSEP. The BLM will also consider amending the CDCA Plan (1980, as amended) in this analysis. The CDCA Plan, while recognizing the potential compatibility of solar generation facilities on public lands, requires that all sites proposed for power generation or transmission not identified in the Plan be considered through the BLM land use plan amendment process. If the BLM decides to grant a ROW for this project, the CDCA Plan would be amended as required.

The proposed action is to authorize the GSEP and amend the CDCA Plan to designate the project area as available for solar energy projects. In addition to the proposed action, the BLM is analyzing an alternative that would reduce the project footprint by half, to approximately 900 acres of disturbance, by constructing only one power plant for a total output of 125 MW. The BLM is also analyzing a dry-cooling alternative. All three action alternatives would amend the CDCA Plan to designate the area as available for commercial solar energy development. As required under NEPA, the Draft EIS analyzes a No Action alternative that would not require a CDCA Plan amendment. The Draft EIS also analyzes alternatives that reject the project, but amend the CDCA Plan to either: (1) Designate the project area as available for future solar energy power generation projects; or (2) designate the project area as unavailable for future solar energy power generation projects. The BLM will take into consideration the provisions of the Energy Policy Act of 2005 and Secretarial Order 3283 Enhancing Renewable Energy Development on the Public Lands and Secretarial Order 3285 Renewable Energy Development by the Department of the Interior in responding to the NextEra application.

The BLM has entered into a Memorandum of Understanding with the CEC to conduct a joint environmental review of solar thermal projects that are proposed on Federal land managed by the BLM. The BLM and CEC have agreed to conduct joint environmental review of the project in a single combined NEPA/California Environmental Quality Act process and document. The Draft EIS/SA analyzes site-specific impacts of the proposed project on air quality; biological, cultural, water, soil, visual, paleontological, and geological resources; recreation; land use; noise; public health; socioeconomics; and traffic and transportation. The Draft EIS/SA also addresses hazardous materials handling, waste management, worker safety, fire protection, facility design engineering, efficiency, reliability, transmission system engineering, transmission line safety, and nuisance.

A Notice of Intent to Prepare an EIS/SA and Proposed Land Use Plan Amendment for the NextEra Genesis Solar Energy Project in Riverside County was published in the Federal Register on November 23, 2009 (74 FR 61167). The BLM held two public scoping meetings in Blythe, California, and Palm Desert, California, on December 10th and11th, 2009. The formal scoping period ended December 23, 2009.

Before including your address, phone number, e-mail address, or other personal identifying information in your comment, you should be aware that your entire comment—including your personal identifying information—may be made publicly available at any time. While you can ask us in your comment to withhold your personal identifying information from public review, we cannot guarantee that we will be able to do so.

Authority: 40 CFR 1506.6, 1506.10, and 43 CFR 1610.2

Karla D. Norris,
Associate Deputy State Director.

[FR Doc. 2010-8905 Filed 4-16-10; 8:45 am]

BILLING CODE 4310-40-P